FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on continuing information collections, as required by the Paperwork Reduction Act of 1995 (44 U.S.C. chapter 35). Currently, the FDIC is soliciting comments on full clearance of the following collection currently approved by OMB on an emergency basis: Qualifications for Failed Bank Acquisitions (OMB Control No. 3064-0169).

DATES: Comments must be submitted on or before January 29, 2010.

ADDRESSES: Interested parties are invited to submit written comments to the FDIC by any of the following methods. All comments should refer to the name of the collection:

• http://www.FDIC.gov/regulations/laws/federal/notices.html

• E-mail: comments@fdic.gov. Include the name of the collection in the subject line of the message.

• Mail: Leneta G. Gregorie (202-898-3719), Counsel, Room F-1064, Federal Deposit Insurance Corporation, 550 17th Street NW., Washington, DC 20429.

• Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Leneta G. Gregorie at the address identified above.

SUPPLEMENTARY INFORMATION:

Proposal to obtain full clearance of the following collection of information currently approved on an emergency basis:

Title: Qualifications for Failed Bank Acquisitions.

OMB Number: 3064-0169.

Estimated Number of Respondents:

Investor reports on affiliates—20.

Maintenance of business books and records—5.

Disclosures regarding investors and entities in ownership chain—20.

Frequency of Response:

Investor reports on affiliates—12.

Maintenance of business books and records—4.

Disclosures regarding investors and entities in ownership chain—4.

Affected Public: Private capital investors seeking to acquire assets and/or liabilities of failed insured depository institutions.

Estimated Time per Response:

Investor reports on affiliates—2 hours.

Maintenance of business books and records—2 hours.

Disclosures regarding investors and entities in ownership chain—4 hours.

Total Annual Burden: 840 hours.

General Description of Collection: This collection includes reporting, recordkeeping, and disclosure requirements for private capital investors that propose to acquire, directly or indirectly, the deposit liabilities and or such liabilities and assets from the resolution of a failed insured depository institution or for applicants of deposit insurance in the case of de novo charters issued in connection with the resolution of failed insured depository institutions (Investors). The information sought from these Investors will provide greater transparency to the FDIC about their business models, capital structures, management, interaction with related parties, and other interests of Investors involved in the acquisition of deposit liabilities or liabilities and assets from troubled insured depository institutions.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for full clearance of this collection. All comments will become a matter of public record.

Dated at Washington, DC, this 24th day of November, 2009.
Federal Deposit Insurance Corporation.
Valerie J. Best,
Assistant Executive Secretary.

[FR Doc. E9-28597 Filed 11-30-09; 8:45 am]

BILLING CODE 6714-01-P